DEPARTMENT OF JUSTICE

Notice of Lodging of Consent Decree Pursuant to the Clean Air Act

In accordance with Departmental policy, 28 CFR 50.7, notice is hereby given that a proposed consent decree in U.S. v. Gallatin Steel Company, Civil No. 99-30 (E.D. Ky.) was lodged on October 5, 2000, with the United States District Court for the Eastern District of Kentucky.

The consent decree settles claims for civil penalties and injunctive relief against Gallatin Steel Company for violations of the Clean Air Act and Kentucky's State Implementation Plan (“SIP”). The United States alleges that Gallatin Steel Company violated the Clean Air Act and the Kentucky SIP because: (1) It exceeded the limits in a permit issued by the Kentucky Division of Air Quality (“KDAQ”) in 1993 for NOX and CO from its electric arc furnaces (“EAFs”); (2) violated permit NOX emissions limits at its reheat furnace; (3) constructed emissions units of regulated pollutants without a permit; (4) started up EAFs without operating emission control equipment as required by its permit; (5) failed to include emissions from emissions units in permit applications; (6) failed to use reasonable precautions during the loading and unloading of scrap in the scrap yard to prevent fugitive dust from becoming airborne; and (7) circumvented Prevention of Significant Deterioration (“PSD”) review as required by Section 165 of the Clean Air Act, 42 U.S.C. § 7475, and 401 KAR 51:017.

The proposed consent decree provides that Gallatin Steel Company will pay a civil penalty of $925,000 and install a new dust evacuation system in the melt shop and a new dust suppression system to minimize fugitive dust emissions in the scrap yard. In addition, Gallatin has agreed to supplement its PSD and Title V permit applications to include emissions from the sources that were not included in prior applications. Finally, Gallatin has agreed not to challenge a determination by the KDAQ that emissions from an onsite slag processing plant owned by Harsco, an independent company, will be treated as emissions from the steel mill for PSD and Title V purposes.

The Department of Justice will receive, for a period of thirty (30) days from the date of this publication, comments relating to the proposed consent decree. Comments should be addressed to the Assistant Attorney General for the Environment and Natural Resources Division, Department of Justice, Washington, DC 20530, and should refer to U.S. v. Gallatin Steel Company, DOJ Ref. #90-5-2-1-2115.

The proposed consent decree may be examined at the office of the United States Attorney, for the Eastern District of Kentucky, 110 West Vine Street, Lexington, Kentucky 40596-3077; and the Region 4 Office of the Environmental Protection Agency, 61 Forsyth Street, S.W., Atlanta, Georgia 30303. A copy of the proposed consent decree may be obtained by mail from the Consent Decree Library, P.O. Box 7611, Washington, DC 20044-7611. In requesting a copy please refer to the referenced case and enclose a check in the amount of $9.00 (25 cents per page reproduction costs), payable to the Consent Decree Library.

Walker B. Smith,
Deputy Chief, Environmental Enforcement Section, Environment and Natural Resources Division.

[FR Doc. 00-27003 Filed 10-19-00; 8:45 am]

BILLING CODE 4410-15-M